DEPARTMENT OF STATE

[Public Notice 5253]

Bureau of Educational and Cultural Affairs; Request for Grant Proposals: Summer Institute for English as a Foreign Language Administrator from Francophone and Lusophone Sub-Saharan Africa

Announcement Type: New Cooperative Agreement.

Funding Opportunity Number: ECA/A/E/AF-06-01.

Catalog of Federal Domestic Assistance Number: 00.000.

Key Dates: June 1, 2006-December 15, 2006.

Application Deadline: February 13, 2006.

SUMMARY: The African Programs Branch (ECA/A/E/AF), Office of Academic Exchange Programs of the Bureau of Educational and Cultural Affairs announces an open competition for the 2006 Summer Institute for English as a Foreign Language (EFL) Administrators from Francophone and Lusophone Sub-Saharan Africa.

Accredited, post-secondary U.S. educational institutions may submit proposals to administer a U.S.-based six-week program in educational management, teacher-training, materials development and organizational skills for 16 secondary school EFL supervisors/inspectors and school administrators with strong EFL backgrounds selected from French and Portuguese-speaking countries of Sub-Saharan Africa. The Bureau anticipates providing one assistance award to support this program.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The general objective of the Institute is to support and encourage the upgrading of English language programs in secondary schools in French and Portuguese-speaking African countries by enhancing participants' educational management, teacher-training, EFL materials development and organizational skills as well as broadening their understanding of U.S. institutions and culture. American institutions of higher education having experience in the field of English as a Second Language (ESL) or English as a Foreign Language (EFL), ESL/EFL materials development and teacher training/assessment may apply to develop, administer, and provide follow-up to the six-week summer program.

Guidelines: The proposal should be designed to support the following specific activities:

(a) A five-week academic program with emphasis on developing the capacities of 16 Sub-Saharan African secondary school supervisors/inspectors/administrators to strengthen EFL programs through the design and delivery of more effective teacher-training, use of technology to access and develop teaching materials, and conducting teacher assessment.

(b) Structured cultural activities planned within the five-week academic program to facilitate interaction among the African participants, American students, faculty, administrators, and the local community to promote mutual understanding between the people of the United States and the people of African countries.

(c) One-week of escorted, cultural and educational meetings and site visits in Washington, DC, complementing and reinforcing the academic program. The site visits will include a meeting at the Bureau of Educational and Cultural Affairs.

(d) The creation of a website and a listserv to facilitate follow-on mentoring/participant networking concerning final project implementation and to continue a dialog on ideas developed during the Institute.

(e) Assistance to participants to select, purchase and ship professional materials to use in follow-on activities and training projects in their home countries.

(f) One post-Institute visit to the region by the Institute director or an Institute faculty member to visit one to three participant home workplace(s). The purpose of the visit will be to observe final project follow-on and implementation, and to identify appropriate adjustments to future Institute curricula to better meet participant needs.

The five-week academic program should include a variety of formats such as discussion sessions, lectures, group work, workshops that may include practice with peers, field trips, and professional shadowing. Lectures and presentations on educational management/organization theory should be kept to a minimum. The emphasis should be on developing practical skills and approaches/solutions to real problems/conditions identified by the participants. A successful program design would create an atmosphere where both participants and facilitators are recognized for their expertise and work together toward the overarching goal of improving English language programs in participants' countries. Five specific areas to address in the academic program follow:

1. Training EFL teaching staff: Supporting, motivating teachers and assessing teachers; designing and conducting in-service training programs; building staff cohesiveness.

2. Classroom culture: Creating a school culture conducive to learning, setting behavioral/learning standards, nurturing active student participation, evaluating student progress, fostering parental involvement.

3. Identifying, creating and managing resources: Conducting resource inventories, allocating/tracking resources, budgeting, optimizing limited resources, accessing outside resources.

4. Education Technology: Introduction and/or enrichment of computer-based word processing and appropriate software for participants who lack these skills, introduction to computer networks for EFL professionals, introduction to/ enrichment of knowledge of e-mail and the Internet as pedagogic and research tools.

5. Cultural Activity: The cultural activity program should take advantage of the diversity of the people, places, and events in the local community and/or in nearby cities to enhance participants' experience of American life and culture.

The Washington, DC, educational site visit should be planned, arranged, and conducted by the grantee organization Summer Institute Program Director. The visit is an integral part of the program, complementing and reinforcing the academic portion. Programming in Washington should begin with a briefing session at the Bureau of Educational and Cultural Affairs. ECA/A/E/AF suggests visits with ESL administrators and/or ESL teachers in the greater Washington, DC, vicinity and the national TESOL headquarters located in Alexandria, Virginia. The Washington visit offers an opportunity to explore local museums and attend at least one evening cultural event.

Pending availability of FY 2006 funds, the Institute activities should begin on or about June 12, 2006 with follow-up activities to end before December 15, 2006. Programs must comply with J-1 visa regulations. Please refer to the Solicitation Package for further information.

Program Administration: All Summer Institute programming and administrative logistics, management of the academic program and the educational tour, and on-site arrangements will be the responsibility of the grantee organization. The ECA program officer will serve as a resource for Washington, DC, lodging, activities, and transportation options. The grantee organization is responsible for arrangements for lodging, food, maintenance and local travel for participants while in the U.S. The grantee organization should balance cost-effectiveness in accommodations and meal plans with flexibility for differing diets and personal habits among the participants. Single rooms or housing in residential suites, which offer privacy, are preferable.

The project will provide each participant with a supplemental book allowance of $150 per person. The grantee organization should assist participants in selection, acquisition and shipment of materials to their home countries. The grantee organization should also arrange for institutional or publishers' discounts for participants, as possible.

Proposals should describe the available health care system and the plan to provide health care access to Institute participants. The Department of State will provide limited health insurance coverage to all participants.

Participant Selection: Participants will be selected by the Bureau based on nominations from U.S. Embassies. Minimum qualifications for all participants will be: (1) Adequate proficiency in English to allow full participation in and benefit from the program; (2) the equivalent of BA/BS degrees from their national education systems; (3) three years EFL teaching experience; and (4) job responsibilities related to teacher training and school/program administration. Participants will enter the United States on J-visas, using DS-2019 forms issued by ECA.

Orientation: The grantee organization will provide general pre-departure orientation materials for all participants prior to their travel to the United States. This material should include a tentative program outline with suggested goals and objectives for participants, relevant background information about the grantee organization and individuals involved in the project, and information concerning arrival in the host city, local housing, climate, and available services at the host institution.

Needs Assessment: The U.S. institution should conduct an initial needs assessment of participants upon arrival and be prepared to adjust program emphasis as necessary to respond to participants' concerns in the area of EFL education.

Cooperative Agreement: In a cooperative agreement, ECA/A/E/AF is substantially involved in program activities above and beyond routine grant monitoring. ECA/A/E/AF activities and responsibilities for this program are as follows:

• Participants will be selected by the Bureau based on nominations from U.S. Embassies.

• Participants will enter the United States on J-visas, using DS-2019 forms issued by ECA.

• ECA/A/E/AF will arrange participants' international travel. Air travel to Washington, DC from the host city can be included in the international ticket of each participant if air travel for this leg of the program is appropriate.

• ECA/A/E/AF will facilitate sending pre-arrival orientation materials electronically to participants via U.S. embassy staff.

ECA/A/E/AF will provide the host institution with participants' curricula vitae and travel itineraries and will be available to offer guidance throughout the Institute. Staff of the Bureau of Educational and Cultural Affairs will brief the participants during their visit to Washington, DC.

Proposal Contents: Applicants should submit a complete and thorough proposal describing the program in a convincing and comprehensive manner. Since there is no opportunity for applicants to meet with reviewing officials, the proposal should respond to the criteria set forth in the solicitation and other guidelines as clearly as possible.

The proposal should address succinctly, but completely, the elements described below and must follow all format requirements. The proposal should include the following items:

TAB A—SF-424, “Application for Federal Assistance”

TAB B—Executive Summary

In one double-spaced page, provide the following information about the project:

1. Name of organization/participating institutions.

2. Beginning and ending dates of the program.

3. Proposed theme.

4. Nature of activity.

5. Funding level requested from the Bureau, total program cost, total cost-sharing from the applicant and other sources.

6. Scope and goals: Include (a) the number and description of participants; (b) describe the wider audience benefiting from the program (overall impact); (c) Geographic diversity of program, both in the U.S. and overseas; (d) fields covered; (e) anticipated results (short and long term).

TAB C—Narrative and Calendar of Activities

Provide a detailed description of the project addressing the areas listed below.

1. Vision (statement of need, objectives, goals, benefits).

2. Participating Organizations.

3. Program Activities (orientation, academic component, cultural program, participant monitoring).

4. Program Evaluation.

5. Follow-on activities and visit to home work site(s) of selected participants.

6. Project Management.

7. Work Plan/Time Frame.

Please refer to the Proposal Submission Instruction (PSI) document for technical format and instructions.

TAB D—Budget Submission

The cost to the Bureau for the Summer Institute for English as a Foreign Language Administrators from Francophone and Lusophone Sub-Saharan Africa should not exceed $145,000. The budget should be developed for 16 participants.

Please see Section IV.3e and the Guidelines for Assistance Award Proposals and Budget Guidelines in Proposal Submission Instructions (PSI) in regard to a Summary Budget and a detailed Line-Item Budget. Use notes where further explanation of line items is required to clarify how the figures were derived.

TAB E—Letters of Endorsement and Resumés

Resumés of all program staff should be included in the submission. No resumé should exceed two pages.

TAB F—SF-424B “Assurances-Nonconstruction Programs”

First time applicant organizations and organizations which have not received an assistance award (grant or cooperative agreement) from the Bureau during the past three (3) years, must submit as an attachment to this form the following: (a) One copy of their Charter or Articles of Incorporation; (b) A list of the current Board of Directors; and (c) current financial statements.

Include other attachments, if applicable.

II. Award Information

Type of Award: Cooperative Agreement. ECA's level of involvement in this program is listed under number I above.

Fiscal Year Funds: 2006.

Approximate Total Funding: $145,000.

Approximate Number of Awards: 1.

Approximate Average Award: $145,000.

Anticipated Award Date: June 1, 2006.

Anticipated Project Completion Date: December 15, 2006.

Additional Information:

Pending successful implementation of this program and the availability of funds in subsequent fiscal years, it is ECA's intent to renew this grant for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding one grant, in an amount up to $145,000 to support program and administrative costs required to implement this exchange program. Therefore, organizations with less than four years experience in conducting international exchanges are ineligible to apply under this competition.

IV. Application and Submission Information

Note: Please read the complete announcement before sending inquiries or submitting proposals. Once the RFGP deadline has passed, Bureau staff may not discuss this competition with applicants until the proposal review process has been completed.

IV.1. Contact Information To Request an Application Package

Please contact the Bureau of Educational and Cultural Affairs, ECA/A/E/AF, Room 232, U.S. Department of State, SA-44, 301 4th Street, SW., Washington, DC 20547, telephone (202) 453-8118 and fax number (202) 453-8121, or email kepetsdm@state.gov to request a Solicitation Package. Please specify Dawn Kepets and refer to the Funding Opportunity Number ECA/A/E/AF-06-01 located at the top of this announcement when making your request or on all other inquiries or correspondence.

The Solicitation Package contains the Proposal Submission Instruction (PSI) document that consists of required application forms, and standard guidelines for proposal preparation.

IV.2. To Download a Solicitation Package Via Internet

The entire Solicitation Package may be downloaded from the Bureau's Web site at http://exchanges.state.gov/education/rfgps/menu.htm, or from the Grants.gov Web site at http://www.grants.gov.

Please read all information before downloading.

IV.3. Content and Form of Submission

Applicants must follow all instructions in the Solicitation Package. The application should be sent per the instructions under IV.3f. Application Deadline and Methods of Submission below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF—424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing The J Visa

The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe Your Plans for Overall Program Management, Staffing and Coordination with ECA/A/E/AF

ECA/A/E/AF considers program management, staffing and coordination with the Department of State essential elements of your program. Please give sufficient attention to these elements in your proposal. Please refer to the Technical Eligibility Requirements in the Solicitation package for specific quidelines.

IV.3e. Please take the following information into consideration when preparing your budget:

IV.3e.1. Applicants must submit a comprehensive budget for the entire program. Awards may not exceed $145,000. There must be a summary budget as well as breakdowns reflecting both administrative and program budgets. Applicants may provide separate sub-budgets for each program component, phase, location, or activity to provide clarification. Proposals should maximize cost-sharing in all facets of the program and to stimulate U.S. private sector, including foundation and corporate, support. Applicants must submit a comprehensive budget for the entire program. The Bureau reserves the right to reduce, revise, or increase proposal budgets in accordance with the needs of the program and availability of U.S. government funding.

IV.3e.2. Allowable costs for the program include the following:

1. Instructional costs (for example: instructors' salaries, honoraria for outside speakers, educational course materials);

2. Lodging, meals, and incidentals for participants;

3. Expenses associated with cultural activities planned for the group of participants (for example: tickets, transportation);

4. Administrative costs as necessary;

5. U.S. ground transportation costs to U.S. appointments, meetings and to/from airports.

Please refer to the Solicitation Package for complete budget guidelines and formatting instructions.

IV.3e.3. Divide the line-item budget into Program and Administration sections. The line-item budget should include and elaborate on the categories listed below.

Program Costs: The Institution may choose to itemize academic program costs or set a fee per participant.

The following may be included as itemized instruction costs:

a. Instructors' salaries as appropriate. Salaries, benefits, and services for instructors' salaries for the Institute classes. Identify each position and provide position title, role in the Institute, and, as appropriate, annual salary and percent of effort used for the Institute. Benefits costs should be stated separately from salary costs. Identify how benefits and services were computed.

b. Honoraria and per diem for outside speakers, if any. List names and amounts.

c. Film and video rentals, educational materials, curricular needs (i.e., texts, course packs for classes) as needed.

If the institution chooses to budget instruction costs as a fee per participant, please state what services are provided within that fee, and only actual costs incurred are chargeable to the award.

Clearly indicate the unit cost for each item listed below:

1. Lodging. Housing may be in graduate dormitories, faculty residence, or other, as appropriate. Single rooms are preferred.

2. Meals. Meals may be provided through cash subsistence payments to participants, cafeteria meal plans, or a combination of both. If using a meal plan exclusively, show clearly how the cost of meals will be covered if participants travel away from campus or campus cafeterias are closed.

3. Incidentals allowance. Include an incidentals allowance of $15 per person per day for the full number of days of the summer Institute at the host institution.

4. Supplemental book allowance of $150 per person.

5. Return shipping allowance $150 per person.

6. Lodging, meals and incidentals allowances for participants who must arrive before the Institute formally begins and/or depart after the Institute formally ends, due to airline schedules in their home countries. To estimate costs, multiply daily cost per grantee (include housing, meals and incidentals allowance) by 4 days each by 4 participants.

Note: Per diem rate for lodging and meals may not exceed published U.S. government allowance rates for the site of the Institute. Applicants may use per diem rates that are lower than official government rates.

Cultural activities and other program costs may include the following:

1. Cultural activities: Entrance fees, overnight lodging, and meals not previously listed.

2. Costs for Washington cultural and educational tour: Include participant lodging (double rooms are acceptable); meals for participants; incidentals allowance for participants ($15 per person per day incidentals allowance for full number of days in Washington). Include $130 for incidental expenses for Bureau of Educational and Cultural Affairs meeting in Washington, DC.

3. Transportation: Ground transportation for group cultural and educational activities; ground transportation for airport arrivals and departures.

Note: The Bureau will provide round-trip international air tickets (from home country to Institute site, to Washington, DC., if appropriate, and return to home country) for participants. The cost of airline travel for participants is not needed in the budget.

4. Per diem (or lodging and subsistence) and travel for grantee escort staff for overnight cultural activities and Washington, DC, visit.

Note: Per diem rate for lodging and meals may not exceed published U.S. government allowance rates for the site of the Institute. Institutions may use per diem rates that are lower than official government rates.

5. Costs associated with post-institute implementation/evaluation site visit to Africa.

Administration Costs should include the following:

A. Staff requirements.

B. Benefits.

C. Other directly administrative expenses.

D. Indirect expenses.

Please review carefully the Guidelines for Assistance Award Proposals and Budget Guidelines in Proposal Submission Instructions (PSI) for descriptions and limitations for each type of administrative cost.

IV.3f. Application Deadline and Methods of Submission:

Application Deadline Date: February 13, 2006.

Reference Number: ECA/A/E/AF-06-01.

Methods of Submission:

Applications may be submitted in one of two ways:

(1.) In hard-copy, via a nationally recognized overnight delivery service (i.e., DHL, Federal Express, UPS, Airborne Express, or U.S. Postal Service Express Overnight Mail, etc.), or

(2.) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package.

Important note: When preparing your submission please make sure to include one extra copy of the completed SF-424 form and place it in an envelope addressed to “ECA/EX/PM”.

Applicants must follow all instructions in the Solicitation Package. The original and eight copies of the application should be sent to: U.S. Department of State, SA-44, Bureau of Educational and Cultural Affairs, Ref.: ECA/A/E/AF-06-01, Program Management, ECA/EX/PM, Room 534, 301 4th Street, SW., Washington, DC 20547.

IV.3f.2—Submitting Electronic Applications

Applicants have the option of submitting proposals electronically through Grants.gov (http://www.grants.gov). Complete solicitation packages are available at Grants.gov in the “Find” portion of the system. Please follow the instructions available in the ‘Get Started' portion of the site (http://www.grants.gov/GetStarted).

Applicants have until midnight (12 a.m.) of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards cooperative agreements resides with the Bureau's Grants Officer.

Review Criteria

Technically eligible applications will be competitively reviewed according to the criteria stated below. These criteria are not rank ordered and all carry equal weight in the proposal evaluation:

1. Quality of the program conceptualization and planning: Proposals should exhibit originality, substance, precision, and relevance to the Bureau's mission of mutual understanding as well as adherence to all guidelines, goals and objectives described in the RFGP. The proposal should demonstrate effective use of community and regional resources to enhance the educational and cultural experiences of the participants. A relevant work plan and detailed calendar should demonstrate substantive undertakings and logistical capacity.

2. Institutional Capacity: Proposed personnel and institutional resources should be adequate and appropriate to achieve a substantive academic program and effective cross-cultural communication with Francophone and Lusophone African participants. Proposals should demonstrate an institutional record of successful exchange programs, including responsible fiscal management and full compliance with all reporting requirements for past Bureau grants. The proposal should show evidence of the applicant's strong on-site administrative capabilities with specific discussion of how logistical arrangements will be undertaken.

3. Multiplier effect/impact: Proposed programs should strengthen long-term mutual understanding, including maximum sharing of information and establishment of long-term institutional and individual linkages.

4. Support of Diversity: Proposals should demonstrate substantive support of the Bureau's policy on diversity. Program administrators should strive for diversity among Institute staff, university students, the host community who interact with participants, and the cultural component of the program.

5. Follow-on Activities: Proposals should provide a plan for continued follow-on activity (without Bureau support) ensuring that Bureau supported programs are not isolated events.

6. Project Evaluation: Proposals should include a plan to evaluate the activity's success, both as the activities unfold and at the conclusion of the program. A draft survey questionnaire or other technique plus description of a methodology to use to link outcomes to original project objectives are recommended.

7. Cost-effectiveness: The overhead and administrative components of the proposal, including salaries and honoraria, should be kept as low as possible. All other items should be necessary and appropriate.

8. Cost-sharing: Proposals should maximize cost-sharing through other private sector support as well as institutional direct funding contributions.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following websites for additional information:

http://www.whitehouse.gov/omb/grants.

http://exchanges.state.gov/education/grantsdiv/terms.htm#articleI

VI.3. Reporting Requirements

You must provide ECA with a hard copy original plus two copies of the following reports:

(1) A final program and financial report no more than 90 days after the expiration of the award.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Dawn Kepets, African Programs Branch, ECA/A/E/AF, Room 232, ECA/A/E/AF-06-01, U.S. Department of State, SA-44, 301 4th Street, SW., Washington, DC 20547, telephone: 202-453-8118 or fax: 202-453-8121 or email: kepetsdm@state.gov.

All correspondence with the Bureau concerning this RFGP should reference the above title and number ECA/A/E/AF-06-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: December 15, 2005.
C. Miller Crouch,
Principal Deputy Assistant Secretary, Bureau of Educational and Cultural Affairs, Department of State.

[FR Doc. E5-7718 Filed 12-21-05; 8:45 am]

BILLING CODE 4710-05-P